DEPARTMENT OF THE INTERIOR

National Park Service

[NPS-WASO-NAGPRA-NPS0036524; PPWOCRADN0-PCU00RP14.R50000]

Notice of Intent To Repatriate Cultural Items: Michigan State University, East Lansing, MI

AGENCY: National Park Service, Interior.

ACTION: Notice.

SUMMARY: In accordance with the Native American Graves Protection and Repatriation Act (NAGPRA), Michigan State University intends to repatriate certain cultural items that meet the definition of unassociated funerary objects and that have a cultural affiliation with the Indian Tribes or Native Hawaiian organizations in this notice. The cultural items were removed from Mackinac County, MI.

DATES: Repatriation of the cultural items in this notice may occur on or after October 12, 2023.

ADDRESSES: Judith Stoddart, Michigan State University, 287 Delta Court, East Lansing, MI 48824, telephone (517) 432-2524, email stoddart@msu.edu.

SUPPLEMENTARY INFORMATION: This notice is published as part of the National Park Service's administrative responsibilities under NAGPRA. The determinations in this notice are the sole responsibility of Michigan State University. The National Park Service is not responsible for the determinations in this notice. Additional information on the determinations in this notice, including the results of consultation, can be found in the summary or related records held by Michigan State University.

Description

The 381 cultural items were removed from Mackinac County, MI. Beginning in 1958, these objects were removed from the Gros Cap Archaeological District in Mackinac County, MI. Sites and localities within the District and surrounding area include the Gros Cap site (20MK6), the Campfire Site (20MK7), the post-contact era Gros Cap Cemetery, “Ryerse Beach Cottage,” “Graham Point,” and “Killarney Beach.” The objects were acquired by Orlando Greenlees. On at least one occasion, Greenlees acquired Native American cultural items from other individuals, including a Mr. Bicknell. Mr. Greenlees owned the property adjacent to the Gros Cap Cemetery and served as its caretaker. In 1970, Alicia Mackin acquired Greenlees' collection, and on April 12, 1976, she donated it to Michigan State University Museum.

The 381 unassociated funerary objects are five catlinite beads (3901.18.3.5; 3901.18.3.6; No catalog #), three catlinite pipe fragments (3901.18.2.6; 3901.26.5; 3901.26.13), one catlinite effigy pipe fragment (3901.18.3.1), three catlinite beaver effigies (3901.18.3.2), three catlinite pendant fragments (3901.18.3.3; 3901.18.3.4; 3901.18.3.8), one catlinite cross effigy (3901.18.3.7), one stone pipe fragment (3901.24.5), nine clay pipe bowl and stem fragments (3901.26.2; 3901.26.3; 3901.26.4; 3901.26.8; 3901.26.9; 3901.26.10; 3901.26.11; 3901.26.12; 3901.30.12), one Scottish pipe fragment (3901.26.7), one French pipe bowl fragment (3901.26.1), one ceramic pipe bowl with incising (3901.28.18), six lots consisting of ceramic sherds (3901.15.7; 3901.22.19; 3901.32.17; 3901.33.19; 3901.99.5), two refit ceramic vessels (3901.15.6/3901.99.4 and 3901.12.14/3901.15.7/3901.99.4/3901.99.5), 14 grit tempered ceramic sherds (3901.12.13; 3901.12.15; 3901.12.16; 3901.15.5; 3901.15.6; 3901.18.5.5; 3901.30.14; 3901.30.15; 3901.30.16; 3901.30.17; 3901.99.6; 3901.99.7; 3901.99.8; 3901.99.9), one copper bracelet (3901.18.2.4), one copper nugget (3901.22.17), two copper sheet sections (3901.30.13), two copper hair pullers (3901.33.12; 3901.33.13), two lots of copper strips (3901.15.8; 3901.22.21), two copper axe heads (3901.24.9; 3901.25.1), two lots consisting of copper beads (3901.22.22; 3901.24.10), three lots consisting of rolled copper kettle fragments (3901.22.20; 3901.30.23; 3901.33.16), one copper handle cover (3901.27.19); one copper kettle (3901.101); one copper kettle latch (3901.15.10), three lots consisting of copper tinkling cones (3901.15.9; 3901.22.23; 3901.31.7), three lots consisting of copper scrap (3901.31.8; 3901.99.3), 12 lots consisting of animal bones (3901.12.9; 3901.27.2; 3901.27.5; 3901.28.16; 3901.28.17; 3901.30.20; 3901.30.21; 3901.31.4; 3901.31.5; 3901.33.24; 3901.34.9; 3901.100.1), two lots consisting of burnt animal bones (3901.15.14; 3901.32.15), three lots consisting of animal teeth (3901.26.21; 3901.26.23; 3901.27.7), five lots consisting of worked animal bones (3901.27.9; 3901.27.11; 3901.27.12; 3901.27.13; 3901.32.14), three lots consisting of bird bones (3901.26.20; 3901.33.18; 3901.34.10), one lot consisting of turtle shells (3901.27.8), 11 lots consisting of fish bones (3901.18.5.4; 3901.27.4; 3901.30.2; 3901.30.6; 3901.30.7; 3901.31.3; 3901.34.8), six lots consisting of sturgeon bones (3901.12.8; 3901.15.4; 3901.27.1; 3901.31.2), three beaver mandible fragments (3901.12.12; 3901.26.17; 3901.30.8), two beaver incisors (3901.30.9), two eagle talons (3901.26.18), one boar tusk (3901.26.19), one raccoon mandible (3901.20.8), one deer tibia (2901.18.2.5), seven lots consisting of dog mandibles and teeth (3901.15.1; 3901.15.2; 3901.15.3; 3901.26.22; 3901.27.3; 3901.30.3; 3901.30.10), one piece of cut antler (3901.12.11), one small animal horn (3901.26.24), two bone needles (3901.18.4.1; 3901.18.4.2), one bone gorge (3901.28.14); one bone wedding spoon with birds on handle (3901.18.5.2), two bone awls (3901.28.13; 3901.34.7), five bone points (3901.28.8; 3901.28.9; 3901.28.10; 3901.28.11; 3901.28.12), four bone flakers (3901.28.4; 3901.28.5; 3901.28.6; 3901.28.7), one antler scraper (3901.24.3), one antler gorge (3901.28.15), one antler pressure flaker (3901.12.10), one bone carving (3901.33.2), one bone bracelet (3901.18.2.3), one bone knife (3901.18.2.2), one bone effigy of a standing man (3901.33.17), one carved bone comb (3901.26.15), four bone harpoon heads (3901.27.10; 3901.28.1; 3901.28.2; 3901.28.3), one carved boar tusk with hand and heart design (3901.26.16), two lots consisting of rolled birch bark fragments (3901.18.5.1; 3901.22.18), one piece of leather with bell attached (3901.22.28), one band of woven fibers with copper (3901.18.5.3), two lots consisting of fiber pieces (3901.22.29; 3901.31.11), 12 hand forged nails (3901.12.17; 3901.15.11; 3901.27.18; 3901.31.10; 3901.33.1), 10 square nails (3901.30.19 (n=2); 3901.34.22 (n=8)), one piece of decorative metal (3901.33.21), four lots consisting of iron and iron scrap (3901.31.9; 3901.33.22; 3901.34.24; 3901.100.5), two lots consisting of metal pieces and scrap (3901.12.7; 3901.27.17), one thin metal rod (3091.33.3), one iron rod fragment (3901.23.1), one shell (3901.27.6), three shell runtees (3901.33.6; 3901.33.7; 3901.33.8), two shell runtee fish effigies (3901.33.9; 3901.33.10), one shell standing man effigy (3901.34.11), two shell/bone ornaments (3901.18.2.6), three lots consisting of glass trade beads in various colors (3901.18.2.1; 3901.33.20), one lot consisting of black glass beads (3901.22.3), three lots consisting of blue glass trade beads (3901.22.13; 3901.22.14; 3901.27.23), one lot consisting of blue and white glass trade beads (3901.22.2), one lot consisting of brown glass trade beads (3901.22.12), two lots consisting of clear glass beads (3901.22.1; 3901.27.22), one lot consisting of green glass trade beads (3901.22.4), one lot consisting of light green glass trade beads (3901.22.9), two lots consisting of navy blue glass trade beads (3901.22.8; 3901.22.15), one lot consisting of red glass trade beads (3901.22.10), one lot consisting of red/amber glass trade beads (3901.22.7), one lot consisting of turquoise glass beads (3901.30.25), four lots consisting of white glass trade beads (3901.22.5; 3901.22.6; 3901.22.11; 3901.30.24), one lot consisting of yellow glass trade beads (3901.22.16), one lot consisting of chipped glass (3901.33.23); one lot consisting of melted glass (3901.33.25); four lots consisting of red ochre (3901.22.26; 3901.26.14; 3901.32.18; 3901.34.14), nine bifaces (3901.23.6; 3901.24.4; 3901.24.6; 3901.24.7; 3901.25.19; 3901.25.20; 3901.25.21; 3901.25.22; 3901.33.11), one flint drill (3901.25.5), one argillite projectile point (3901.25.18), 40 projectile points (3901.15.12; 3901.23.7; 3901.23.10; 3901.23.11; 3901.23.12; 3901.23.13; 3901.23.14; 3901.23.15; 3901.23.16; 3901.23.17; 3901.23.18; 3901.23.19; 3901.23.20; 3901.23.21; 3901.23.22; 3901.23.23; 3901.23.24; 3901.23.25; 3901.23.26; 3901.23.27; 3901.23.28; 3901.23.29; 3901.23.30; 3901.23.31; 3901.23.32; 3901.23.33; 3901.23.34; 3901.23.35; 3901.23.36; 3901.25.7; 3901.25.8; 3901.25.9; 3901.25.10; 3901.25.11; 3901.25.12; 3901.25.13; 3901.25.14; 3901.25.15; 3901.25.16; 3901.25.17), 9 flakes (3901.23.8; 3901.23.9; 3901.25.23; 3901.27.20; 3901.27.21; 2901.30.22; 3901.99.1; 3901.100.2; 3901.100.3), two slate pendants (3901.25.3; 3901.25.4), one stone ball (3901.30.4), one stone gorget (3901.25.2), one side notched stone gorget (3901.24.1), three stone pipe fragments (3901.25.6; 3901.26.6; 3901.28.19), one stone plummet (3901.24.2), two stones used for pottery temper (3901.30.1), one stone tamper (3901.27.24), one smooth stone (3901.30.11), one translucent stone pendant (3901.33.5), one piece of worked stone (3901.24.8), one piece of granite temper (3901.22.25), one soapstone fragment (3901.18.3.9), nine brass Jesuit rings (3901.18.1.1), one uniform braid (3901.29.3), four brass hawkbells (3901.18.1.2), one lot consisting of brass scrap (3901.99.2), 16 iron knives and fragments (3901.12.1; 3901.12.2; 3901.12.3; 3901.12.4; 3901.12.5; 3901.12.6; 3901.27.14; 3901.27.15; 3901.30.5 (n=2); 3901.32.16; 3901.34.16; 3901.34.17; 3901.34.18; 3901.34.19), one iron strike-a-lite (3901.22.24), two metal awls (3901.27.16; 3901.30.18), one gun fragment (3901.33.14), four French honey-colored gunflints (3901.23.2; 3901.23.3; 3901.23.4; 3901.33.4), one pewter dish (3901.33.15), one lot of wood with leather and fabric, and attached copper mail and trade beads (3901.15.13); one strap handled pot (3901.102), three iron axe heads (3901.103; 3901.104; 3901.105), three porcelain sherds (3901.31.6; 3901.34.13; 3901.100.4), one brass navigational compass (3901.97), one metal disk (3901.34.23), two three-pronged forks with wooden handles (3901.34.20; 3901.34.21), one wire wound metal bracelet (3901.34.15), one lot consisting of carved wood fragments (3901.29.9), four lots consisting of wood fragments (3901.18.5.6, 3901.29.8, 3901.33.26, 3901.34.12), one grinding stone (3901.34.6), four whetstones (3901.34.2, 3901.34.3, 3901.34.4, 3901.34.5), one fossilized clam (3901.22.27), and one fossilized fern (3901.23.5).

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, oral traditional, and expert opinion.

Determinations

Pursuant to NAGPRA and its implementing regulations, and after consultation with the appropriate Indian Tribes and Native Hawaiian organizations, Michigan State University has determined that:

• The 381 cultural items described above are reasonably believed to have been placed with or near individual human remains at the time of death or later as part of the death rite or ceremony and are believed, by a preponderance of the evidence, to have been removed from a specific burial site of a Native American individual.

• There is a relationship of shared group identity that can be reasonably traced between the cultural items and the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Pokagon Band of Potawatomi Indians, Michigan and Indiana; Saginaw Chippewa Indian Tribe of Michigan; and the Sault Ste. Marie Tribe of Chippewa Indians.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 12, 2023. If competing requests for repatriation are received, Michigan State University must determine the most appropriate requestor prior to repatriation. Requests for joint repatriation of the cultural items are considered a single request and not competing requests. Michigan State University is responsible for sending a copy of this notice to the Indian Tribes identified in this notice.

Authority: Native American Graves Protection and Repatriation Act, 25 U.S.C. 3003, and the implementing regulations, 43 CFR 10.8, § 10.10, and § 10.14.

Dated: August 30, 2023.
Melanie O'Brien,
Manager, National NAGPRA Program.

[FR Doc. 2023-19600 Filed 9-11-23; 8:45 am]

BILLING CODE 4312-52-P